DEPARTMENT OF AGRICULTURE

Submission for OMB Review; Comment Request

April 1, 2021.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding these information collections are best assured of having their full effect if received by May 6, 2021. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Field Crops Production—Substantive Change.

OMB Control Number: 0535-0002.

Summary of Collection: General authority for these data collection activities is granted under U.S. Code Title 7, Section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

One of the surveys in this Information Collection Request is the Wheat & Barley Variety Survey. The Montana Wheat and Barley Commission reinstated full funding for the survey. As part of that funding, the Montana Wheat and Barley Commission requested NASS collect information on (1) the respondent's primary factor for choosing a variety to plant, (2) the primary agronomic trait, after yield and protein, the respondent uses to determine a variety to plant, and (3) the respondent's overall impression of the profitability and stability of the operation. The additional questions added to the Wheat and Barley Variety Survey will add an additional 1,837 burden hours raising the total for this information collection request to 172,137 hours. The sample size will be increased by 5,300 respondents which increases the total number of respondents to 579,115.

Need and Use of the Information: The additional questions will assist wheat experts in Montana understand what growers in the State expect when choosing which wheat and barley varieties to plant in a given year.

Description of Respondents: Farms and Ranches.

Number of Respondents: 579,115.

Frequency of Responses: Reporting: Varies.

Total Burden Hours: 172,137.

Levi S. Harrell,
Departmental Information Collection Clearance Officer.

[FR Doc. 2021-07086 Filed 4-5-21; 8:45 am]

BILLING CODE 3410-20-P